DEPARTMENT OF COMMERCE

National Oceanic and Atmospheric Administration

[RTID 0648-XB662]

Fisheries of the Caribbean, Gulf of Mexico, and South Atlantic; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from the South Carolina Aquarium. If granted, the EFP would authorize the South Carolina Aquarium to collect, with certain conditions, various species of snapper-grouper, Spanish mackerel, king mackerel, golden crab, dolphin, wahoo, Atlantic cobia, spiny lobster, and shrimp in the Federal waters off South Carolina and North Carolina in the South Atlantic. The specimens would be used in educational exhibits displaying native marine species at the South Carolina Aquarium located in Charleston, SC.

DATES: Written comments must be received on or before April 1, 2022.

ADDRESSES: You may submit comments, identified by “NOAA-NMFS-2021-0131”, by any of the following methods:

• Electronic Submission: Submit all electronic public comments via the Federal e-Rulemaking Portal. Go to https://www.regulations.gov and enter “NOAA-NMFS-2021-0131” in the Search box. Click the “Comment” icon, complete the required fields, and enter or attach your comments.

• Mail: Submit written comments to Nikhil Mehta, Southeast Regional Office, NMFS, 263 13th Avenue South, St. Petersburg, FL 33701.

Instructions: Comments sent by any other method (including email), to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Electronic copies of the EFP application and related documents are available from the website at https://www.fisheries.noaa.gov/southeast/south-carolina-aquarium-exempted-fishing-permit-application.

FOR FURTHER INFORMATION CONTACT: Nikhil Mehta, 727-824-5305; email nikhil.mehta@noaa.gov.

SUPPLEMENTARY INFORMATION: The EFP is requested under the authority of the Magnuson-Stevens Fishery Conservation and Management Act (Magnuson-Stevens Act), 16 U.S.C. 1801 et seq.), and regulations at 50 CFR 600.745(b) concerning exempted fishing.

The proposed specimen collection involves activities otherwise prohibited under the Magnuson-Stevens Act by regulations at 50 CFR part 622, subparts I, J, L, M, Q, and R, as they pertain to species managed by the South Atlantic Fishery Management Council (Council) under the Fishery Management Plans for Snapper-Grouper, Coastal Migratory Pelagics, Dolphin and Wahoo, Golden Crab, Spiny Lobster, and Shrimp. The EFP would also exempt the described activities from certain Atlantic cobia regulations under the Atlantic Coastal Fisheries Cooperative Management Act at 50 CFR part 697. The South Carolina Aquarium is a not-for-profit public institution dedicated to the understanding and conservation of South Carolina's natural habitats and resources. The overall intent of the project is to incorporate native species into educational exhibits at the South Carolina Aquarium. The aquarium uses these displays of native South Carolina species to teach the public about stewardship and habitat preservation.

To accomplish their request for species collection, the applicant seeks exemption from regulations at 50 CFR 622.9(c) (Fish traps); 50 CFR 622.177(a) (Gear Identification); 50 CFR 622.181(b)(1), (b)(3), and (c) (Prohibited and limited-harvest species); 50 CFR 622.183(b)(1) through (5) and (b)(7) and (8) (Area and seasonal closures); 50 CFR 622.184(a) (Seasonal harvest limitations); 50 CFR 622.185 (Size limits); 50 CFR 622.187(b), except for Nassau grouper at (b)(2)(v) (Bag and possession limits); 50 CFR 622.188(a)(2) (Required gear, authorized gear, and unauthorized gear); 50 CFR 622.200(a)(2)(i) (Permits); 50 CFR 622.240(a) (Permits); 50 CFR 622.245(c) (Prohibited species); 50 CFR 622.275 (Size limits); 622.277(a)(1)(i) and (a)(2)(i) (Bag and possession limits); 622.380(b) and (c) (Size limits); 50 CFR 622.382(a)(1)(i) and (iii) (Bag and possession limits); 50 CFR 622.402(b) (Permits); 50 CFR 622.404(d) (Prohibited gears and methods); 50 CFR 622.407(a) (Minimum size limits and other harvest limitations); 50 CFR 622.408(a) (Bag/possession limits); 50 CFR 697.28(c) (Size limits); and 50 CFR 697.28(e) (Bag and possession limits).

The applicant requires authorization to collect (live) 1,436 fish and 455 invertebrates (crabs, lobsters, and shrimp) per year in the Federal waters off South Carolina, and sporadically in the Federal waters off North Carolina. The federally-managed species to be collected by the applicant per year, over a 5-year period, listed by common name with the collection total, are: Groupers (50 total) (Epinephelus spp. including rock hind, graysby, speckled hind (no more than 2), yellowedge, coney, red hind, goliath (no more than 2), red, misty, warsaw (no more than 2), and snowy); groupers (50 total) (Mycteroperca spp. including gag, black, yellowmouth, scamp, and yellowfin); grunts (250 total) (Haemulon spp. including margate, tomtate, cottonwick, sailors choice, and white); jacks (75 total) (Caranx spp. including bar jack); jacks (125 total) (Seriola spp. including greater amberjack, lesser amberjack, almaco jack, and banded rudderfish); Atlantic spadefish (50); hogfish (8); wreckfish (2); porgies (65 total) (Calamus spp. including jolthead, saucereye, whitebone, and knobbed); red porgy (25); longspine porgy (50); scup (50); sea basses (100 total) (Centroprstis spp. including bank, rock, and black); snappers (175 total) (including blackfin, queen (no more than 2), mutton, red (no more than 25), cubera, gray, lane, yellowtail, vermilion (no more than 75)); blueline tilefish (5); golden tilefish (5); sand tilefish (10); triggerfish (25 total) (Balistes spp. including gray); ocean triggerfish (25); bullet mackerel (100); frigate mackerel (100); king mackerel (15); Spanish mackerel (15); wahoo (5); dolphin (50); and Atlantic cobia (6). Invertebrates (non-penaeid including golden crab (5), spiny lobster (25), and rock shrimp (25); penaeid shrimp including white, pink, and brown (400).

The project would use vertical hook-and-line gear with artificial and natural baits, black sea bass pots, spiny lobster traps, golden crab traps, octopus traps, hand nets, dip nets, minnow traps and bait traps, and minnow traps. No black sea bass pots, spiny lobster traps, and golden crab traps would be deployed between November 1 and April 30 of each year to avoid interactions with North Atlantic right whales during their calving season. Bait traps and minnow traps would be deployed year round by hand by divers using SCUBA gear. Octopus traps would be deployed year round without lines with buoys going to the surface. Most of the sample collections would be done in less than 300 ft (91 m) of water. No more than five each, black sea bass pots, lobster pots, golden crab traps, minnow traps, and bait traps would be deployed with a soak time of no more than 5 hours at a time, and would not be tied together on a groundline. Up to 10 octopus traps would be deployed in depths less than 100 ft (30.5 m) with a soak time of about 7 days (not to exceed 30 days). These traps are open at one end to allow animals to escape, and are designed for octopuses. All trap and pot gear would be deployed either by hand by divers using SCUBA or through using individual nylon lines with buoys. All gear types described in this paragraph would be utilized for the collection of requested species. This EFP would authorize sampling operations to be conducted on three vessels designated by and operated by personnel from the South Carolina Aquarium.

All attempts would be made (venting, descending device, controlled ascent and descent, etc.) to release all non-targeted bycatch species alive.

NMFS finds this application warrants further consideration based on a preliminary review. Possible conditions the agency may impose on this permit, if the permit is granted, include but are not limited to, a prohibition on conducting sampling activities within marine protected areas, marine sanctuaries, or special management zones, without additional authorization, and requiring compliance with best practices in the event of interactions with any protected species. NMFS would require any sea turtles taken incidentally during the course of fishing or scientific research activities to be handled with due care to prevent injury to live specimens, observed for activity, and returned to the water. Currently, NMFS prohibits the possession of Nassau grouper, goliath grouper, speckled hind, warsaw grouper, and red snapper, but intends to authorize their collection as requested in the application, with the exception of Nassau grouper. Nassau grouper would not be authorized for collection.

A final decision on issuance of the EFP will depend on NMFS' review of public comments received on the application, consultations with the affected states, the Council, and the U.S. Coast Guard, and a determination that it is consistent with all applicable laws.

Authority: 16 U.S.C 1801 et seq.

Dated: February 25, 2022.
Ngagne Jafnar Gueye,
Acting Director, Office of Sustainable Fisheries, National Marine Fisheries Service.

[FR Doc. 2022-04401 Filed 3-1-22; 8:45 am]

BILLING CODE 3510-22-P